FEDERAL COMMUNICATIONS COMMISSION

Sunshine Act Meeting

January 21, 2016.

The Federal Communications Commission will hold an Open Meeting on the subjects listed below on Thursday, January 28, 2016, which is scheduled to commence at 10:30 a.m. in Room TW-C305, at 445 12th Street SW., Washington, DC.

Item No. | Bureau | Subject
1 | MEDIA | TITLE: Expansion of Online Public File Obligations to Cable and Satellite TV Operators and Broadcast and Satellite Radio Licensees (MB Docket No. 14-127). SUMMARY: The Commission will consider a Report and Order which modernizes the public inspection file rules by requiring cable and satellite TV operators and broadcast and satellite radio companies to post public inspection files on the FCC's online database.
2 | PUBLIC SAFETY & HOMELAND SECURITY | TITLE: Amendment of Commission's Rules Regarding the Emergency Alert System (PS Docket No. 15-94) and Wireless Emergency Alerts (PS Docket No. 15-91). SUMMARY: The Commission plans to discuss strengthening the Emergency Alert System (EAS) by promoting participation on the state and local levels, supporting greater testing and awareness of EAS, leveraging technological advances, and bolstering EAS security.
3 | WIRELINE COMPETITION AND WIRE­LESS TELE-COMMUNI­CA­TIONS | TITLE: Inquiry Concerning the Deployment of Advanced Telecommunications Capability to All Americans in a Reasonable and Timely Fashion, and Possible Steps to Accelerate Such Deployment Pursuant to Section 706 of the Telecommunications Act of 1996, as Amended by the Broadband Data Improvement Act (GN Docket No. 15-191). SUMMARY: The Commission will consider the 2016 Broadband Progress Report examining whether advanced telecommunications capability is being deployed to all Americans in a reasonable and timely fashion, pursuant to Section 706 of the Telecommunications Act of 1996.

* * * * *

Consent Agenda

The Commission will consider the following subjects listed below as a consent agenda and these items will not be presented individually:

1 | GENERAL COUNSEL | TITLE: Mitchell F. Brecher Request for Inspection of Records (FOIA Control No. 2014-338). SUMMARY: The Commission will consider a Memorandum Opinion and Order concerning the Application for Review filed by Mitchell F. Brecher regarding the denial of his request for inspection of records under the Freedom of Information Act.
2 | GENERAL COUNSEL | TITLE: SMS/800 Inc. Request for Inspection of Records (FOIA Control No. 2015-044). SUMMARY: The Commission will consider a Memorandum Opinion and Order concerning the Application for Review filed by SMS/800 Inc. regarding the release of records pertaining to SMS/800 Inc. in response to a request for inspection of records under the Freedom of Information Act filed by Mark Lewyn.
3 | GENERAL COUNSEL | TITLE: Rachel A. Avan Request for Inspection of Records (FOIA Control No. 2014-572). SUMMARY: The Commission will consider a Memorandum Opinion and Order concerning the Application for Review filed by Rachel A. Avan regarding the denial of her request for inspection of records under the Freedom of Information Act.
4 | GENERAL COUNSEL | TITLE: Russell Carollo Request for Inspection of Records (FOIA Control No. 2015-553). SUMMARY: The Commission will consider a Memorandum Opinion and Order concerning the Application for Review filed by Russell Carollo regarding the partial denial of his request for inspection of records under the Freedom of Information Act.
5 | MEDIA | TITLE: Application of The KBOO Foundation for a New NCE(FM) Station in Chehalis, Washington. SUMMARY: The Commission will consider a Memorandum Opinion and Order concerning an Application for Review filed by CVEF challenging the grant of an application and waiver requests filed by KBOO Foundation for a new NCE FM station.
6 | MEDIA | TITLE: Application for Renewal of License and Request for Extension of Special Temporary Authorization for Class A Television Station WEBR-CD in Manhattan, New York. SUMMARY: The Commission will consider a Memorandum Opinion and Order concerning an Application for Review filed by Jose Luis Rodriguez seeking review of the grant of a license renewal and STA of WEBR-CD, Manhattan, New York.
7 | CONSUMER & GOVERN­MENTAL AFFAIRS | TITLE: San Fernando Cathedral of San Antonio, Texas, (SFC), Application for Review (CG Docket No. 06-181). SUMMARY: The Commission will consider a Memorandum Opinion and Order addressing an Application for Review filed by SFC seeking review of the Bureau's dismissal of SFC's petition for exemption from the Commission's closed captioning requirements.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Gloria Miles,
Information Specialist.

[FR Doc. 2016-01820 Filed 1-28-16; 4:15 pm]

BILLING CODE 6712-01-P